DEPARTMENT OF TRANSPORTATION

Federal Aviation Administration

14 CFR Part 39

[Docket No. FAA-2024-0469; Project Identifier MCAI-2024-00137-T; Amendment 39-22705; AD 2024-05-13]

RIN 2120-AA64

Airworthiness Directives; Embraer S.A. Airplanes

AGENCY: Federal Aviation Administration (FAA), DOT.

ACTION: Final rule; request for comments.

SUMMARY: The FAA is adopting a new airworthiness directive (AD) for all Embraer S.A. Model EMB-545 and EMB-550 airplanes. This AD was prompted by a report of a hard landing event with substantial damage to the airplane, in which the angle of attack (AOA) limiter was engaged during the final approach phase in unstable air conditions and remained engaged until the airplane touched down on the runway. This AD requires revising the Limitations and Normal Procedures sections of the existing airplane flight manual (AFM) to incorporate new operational airspeed limitations, and flight control limitations and approach procedures when AOA limiter protection is engaged, as specified in an Agência Nacional de Aviação Civil (ANAC) AD, which is incorporated by reference. This AD also requires inspecting records for instances of AOA limiter engagement during a certain phase of flight and reporting findings to the FAA. The FAA is issuing this AD to address the unsafe condition on these products.

DATES: This AD is effective April 10, 2024.

The Director of the Federal Register approved the incorporation by reference of a certain publication listed in this AD as of April 10, 2024.

The FAA must receive comments on this AD by May 10, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-0469; or in person at Docket Operations between 9 a.m. and 5 p.m., Monday through Friday, except Federal holidays. The AD docket contains this final rule, the mandatory continuing airworthiness information (MCAI), any comments received, and other information. The street address for Docket Operations is listed above.

Material Incorporated by Reference:

• For ANAC material incorporated by reference in this AD, contact National Civil Aviation Agency (ANAC), Aeronautical Products Certification Branch (GGCP), Rua Dr. Orlando Feirabend Filho, 230—Centro Empresarial Aquarius—Torre B—Andares 14 a 18, Parque Residencial Aquarius, CEP 12.246-190—São José dos Campos—SP, Brazil; telephone 55 (12) 3203-6600; email pac@anac.gov.br; website anac.gov.br/en/. You may find this material on the ANAC website at sistemas.anac.gov.br/certificacao/DA/DAE.asp.

• You may view this material that is incorporated by reference at the FAA, Airworthiness Products Section, Operational Safety Branch, 2200 South 216th St., Des Moines, WA. For information on the availability of this material at the FAA, call 206-231-3195. It is also available at regulations.gov under Docket No. FAA-2024-0469.

FOR FURTHER INFORMATION CONTACT: Hassan Ibrahim, Aviation Safety Engineer, FAA, 1600 Stewart Avenue, Suite 410, Westbury, NY 11590; phone: 206-231-3653; email: hassan.m.ibrahim@faa.gov.

SUPPLEMENTARY INFORMATION:

Comments Invited

The FAA invites you to send any written data, views, or arguments about this final rule. Send your comments to an address listed under ADDRESSES. Include “Docket No. FAA-2024-0469; Project Identifier MCAI-2024-00137-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Hassan Ibrahim, Aviation Safety Engineer, FAA, 1600 Stewart Avenue, Suite 410, Westbury, NY 11590; phone: 206-231-3653; email: hassan.m.ibrahim@faa.gov. Any commentary that the FAA receives which is not specifically designated as CBI will be placed in the public docket for this rulemaking.

Background

ANAC, which is the aviation authority for Brazil, has issued ANAC AD 2024-02-02, effective February 26, 2024 (ANAC AD 2024-02-02) (also referred to after this as the MCAI), to correct an unsafe condition for all Embraer S.A. Model EMB-545 and EMB-550 airplanes. The MCAI states that a hard landing event with substantial damage to the airplane was reported, in which the AOA limiter was engaged during the final approach phase in unstable air conditions and remained engaged until the airplane touched down on the runway. If the AOA limiter remains engaged during the final approach phase when the landing flare is commanded, pitch response could be reduced during a critical phase of flight near the ground; in unstable air conditions, this condition could result in a high-rate-of-descent landing and the possible consequent catastrophic structural damage of the airplane on landing.

The FAA is issuing this AD to address the unsafe condition on these products.

You may examine the MCAI in the AD docket at regulations.gov under Docket No. FAA-2024-0469.

Related Material Under 1 CFR Part 51

ANAC AD 2024-02-02 specifies procedures for revising the Limitations and Normal Procedures sections of the existing AFM to incorporate operational airspeed limitations, and flight control limitations and approach procedures when AOA limiter protection is engaged. This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this AD after determining that the unsafe condition described previously is likely to exist or develop on other products of the same type design.

Requirements of This AD

This AD requires accomplishing the actions specified in ANAC AD 2024-02-02 described previously, except for any differences identified as exceptions in the regulatory text of this AD and except as discussed under “Differences Between this AD and the MCAI.”

Compliance With AFM Revisions

FAA regulations require operators furnish to pilots any changes to the AFM (for example, 14 CFR 121.137), and to ensure the pilots are familiar with the AFM (for example, 14 CFR 91.505). As with any other flightcrew training requirement, training on the updated AFM content is tracked by the operators and recorded in each pilot's training record, which is available for the FAA to review. FAA regulations also require pilots to follow the procedures in the existing AFM including all updates. 14 CFR 91.9 requires that any person operating a civil aircraft must comply with the operating limitations specified in the AFM.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, ANAC AD 2024-02-02 is incorporated by reference in this AD. This AD requires compliance with ANAC AD 2024-02-02 in its entirety through that incorporation, except for any differences identified as exceptions in the regulatory text of this AD. Service information required by ANAC AD 2024-02-02 for compliance will be available at regulations.gov under Docket No. FAA-2024-0469 after this AD is published.

Differences Between This AD and the MCAI

This AD requires inspecting all airplane records for instances of AOA limiter engagement that occur after passing the final approach fix inbound, or within 5 miles of the intended point of landing if a final approach fix is not required, and reporting findings to the FAA. The compliance time for the records inspection is at intervals not to exceed 30 days after the effective date of this AD for 12 months after the effective date of this AD. The compliance time for reporting is within 10 days after each records inspection.

Interim Action

The FAA considers that this AD is an interim action. If final action is later identified, the FAA might consider further rulemaking then.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because if the AOA limiter remains engaged during the final approach phase when the landing flare is commanded, pitch response could be reduced during a critical phase of flight near the ground; in unstable air conditions, this condition could result in a high-rate-of-descent landing and consequent catastrophic structural damage of the airplane on landing. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 121 airplanes of U.S. registry. The FAA estimates the following costs to comply with this AD:

Estimated Costs for Required Actions
Action | Labor cost | Parts cost | Cost per product | Cost on U.S. operators
AFM revision | 1 work-hour × $85 per hour = $85 | $0 | $85 | $10,285.
Records inspection | 1 work-hour × $85 per hour = $85 | 0 | Up to $1,020 | Up to $123,420.
Report results | 1 work-hour × $85 per hour = $85 | 0 | Up to $1,020 | Up to $123,420.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-05-13 Embraer S.A.: Amendment 39-22705; Docket No. FAA-2024-0469; Project Identifier MCAI-2024-00137-T.

(a) Effective Date

This airworthiness directive (AD) is effective April 10, 2024.

(b) Affected ADs

None.

(c) Applicability

This AD applies to all Embraer S.A. Model EMB-545 and EMB-550 airplanes, certificated in any category.

(d) Subject

Air Transport Association (ATA) of America Code 22, Auto Flight.

(e) Unsafe Condition

This AD was prompted by a report of a hard landing event with substantial damage to the airplane, in which the angle of attack (AOA) limiter was engaged during the final approach phase in unstable air conditions and remained engaged until the airplane touched down on the runway. The FAA is issuing this AD to address AOA limiter engagement during the final approach phase when the landing flare is commanded, which could reduce pitch response during a critical phase of flight near the ground. In unstable air conditions, this condition, if not addressed, could result in a high-rate-of-descent landing and consequent catastrophic structural damage to the airplane on landing.

(f) Compliance

Comply with this AD within the compliance times specified, unless already done.

(g) Requirements

Except as specified in paragraphs (h) and (i) of this AD: Comply with all required actions and compliance times specified in, and in accordance with, Agência Nacional de Aviação Civil (ANAC) AD 2024-02-02, effective February 26, 2024 (ANAC AD 2024-02-02).

Note 1 to paragraph (g): Embraer EMB-545/EMB-550 Stall Protection, General Publication GP-8073, Revision 1, dated February 16, 2024, provides additional guidance regarding the actions required by this AD.

(h) Exceptions to ANAC AD 2024-02-02

(1) Where ANAC AD 2024-02-02 refers to its effective date, this AD requires using the effective date of this AD.

(2) This AD does not adopt paragraph (d) of ANAC AD 2024-02-02.

(i) Records Inspection and Report of Results

(1) Within 30 days after the effective date of this AD, each operator must inspect all aircraft records for instances of AOA limiter engagement that occur after passing the final approach fix inbound, or within 5 miles of the intended point of landing if a final approach fix is not required. Repeat the inspection thereafter at intervals not to exceed 30 days until 12 months after the effective date of this AD. One report per operator may include multiple aircraft for the same operator for that inspection.

(2) Within 10 days after the records inspection required in paragraph (i)(1) of this AD, report the results of the inspection, regardless of whether the inspection found any entries, to the FAA by either email: 9-ASO-ATLACO-ADs@faa.gov; or mail: Attn: Continued Operational Safety, Atlanta ACO Branch, FAA, 1701 Columbia Avenue, College Park, GA 30337. The report must include all known information about the event listed in paragraphs (i)(2)(i) through (viii) of this AD:

(i) Date of records inspection;

(ii) Date and time of all AOA limiter engagements that meet the criteria in paragraph (i)(1) of this AD (if any);

(iii) Airplane serial number;

(iv) Weather conditions at the time of each occurrence;

(v) Copy of the pilot's report of the occurrence (if available);

(vi) Any of the following data that is available: Destination, destination weather, Vref, Vapp, status of autopilot and autothrottle, airspeed at time of AOA limiter engagement, altitude at time of AOA limiter engagement, any turbulence present and its severity, crew action (e.g., go around or continued approach), actual AOA at the time of limiter engagement, seat position of the pilot who was flying (i.e., left or right);

(vii) Flight operations quality assurance (FOQA) data (if available); and

(viii) Any other information pertinent to the occurrence.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (k)(1) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or ANAC; or ANAC's authorized Designee. If approved by the ANAC Designee, the approval must include the Designee's authorized signature.

(k) Additional Information

(1) For more information about this AD, contact Hassan Ibrahim, Aviation Safety Engineer, FAA, 1600 Stewart Avenue, Suite 410, Westbury, NY 11590; phone: 206-231-3653; email: hassan.m.ibrahim@faa.gov.

(2) For Embraer S.A. service information identified in this AD that is not incorporated by reference, contact Embraer S.A., Technical Publications Section (PC 560), Rodovia Presidente Dutra, km 134, 12247-004 Distrito Eugênio de Melo—São José dos Campos—SP—Brazil; telephone: +55 12 3927-0386; email: distrib@embraer.com.br; website: mytechcare.embraer.com.

(l) Material Incorporated by Reference

(1) The Director of the Federal Register approved the incorporation by reference (IBR) of the material listed in this paragraph under 5 U.S.C. 552(a) and 1 CFR part 51.

(2) You must use this material as applicable to do the actions required by this AD, unless this AD specifies otherwise.

(i) Agência Nacional de Aviação Civil (ANAC) AD 2024-02-02, effective February 26, 2024.

(ii) [Reserved]

(3) For ANAC AD 2024-02-02 that is incorporated by reference, contact National Civil Aviation Agency (ANAC), Aeronautical Products Certification Branch (GGCP), Rua Dr. Orlando Feirabend Filho, 230—Centro Empresarial Aquarius—Torre B—Andares 14 a 18, Parque Residencial Aquarius, CEP 12.246-190—São José dos Campos—SP, Brazil; telephone 55 (12) 3203-6600; email: pac@anac.gov.br; website anac.gov.br/en/. You may find this ANAC AD on the ANAC website at sistemas.anac.gov.br/certificacao/DA/DAE.asp.

(4) You may view this material that is incorporated by reference at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on March 13, 2024.
Victor Wicklund,
Deputy Director, Compliance & Airworthiness Division, Aircraft Certification Service.

[FR Doc. 2024-06444 Filed 3-22-24; 11:15 am]

BILLING CODE 4910-13-P